DEPARTMENT OF THE INTERIOR

Fish and Wildlife Service

[FWS-R8-ES-2011-N144; 80221-1112-81420-F2]

Habitat Conservation Plan/Natural Community Conservation Plan for Yolo County, CA: Environmental Impact Statement

AGENCY: Fish and Wildlife Service, Interior.

ACTION: Notice of intent and notice of public meeting; request for comments.

SUMMARY: Under the National Environmental Policy Act of 1969, we, the U.S. Fish and Wildlife Service, advise the public that we intend to gather information necessary to prepare, in coordination with the Yolo County Habitat Conservation Plan/Natural Community Conservation Plan Joint Powers Agency (Joint Powers Agency), a joint Environmental Impact Statement/Environmental Impact Report for the Yolo County Natural Heritage Program Habitat Conservation Plan/Natural Community Conservation Plan (Plan). This document is being prepared under the Endangered Species Act of 1973, as amended, and the California Natural Community Conservation Planning Act. The Joint Powers Agency and the local partners intend to apply for a 50-year incidental take permit from the United States Fish and Wildlife Service. This permit is needed to authorize the incidental take of threatened and endangered species that could result from activities covered under the Plan. We announce meetings and invite comments.

DATES: We must receive written comments on or before December 5th, 2011. Two public scoping meetings will be held on November 7th 2011, the first from 3 to 5 p.m., and the second from 6 to 8 p.m.

ADDRESSES: The public meetings will be held at the West Sacramento City Hall Galleria, 1110 West Capitol Avenue, West Sacramento, CA 95691. Submit written comments to Cori Mustin, Senior Fish and Wildlife Biologist, U.S. Fish and Wildlife Service, Sacramento Fish and Wildlife Office, 2800 Cottage Way, Room W-2605, Sacramento, CA 95825. Comments may alternatively be sent by facsimile to (916) 414-6713. In addition, a traveling information kiosk will be available to the public throughout the 45-day comment period. The kiosk will include a computer station, on which maps and related information will be available for viewing and comments can be submitted. For kiosk locations, dates, and times, see http://www.yoloconservationplan.org/kiosk/schedule.

FOR FURTHER INFORMATION CONTACT: Cori Mustin, Senior Fish and Wildlife Biologist, or Mike Thomas, Chief, Habitat Conservation Planning Division, Sacramento Fish and Wildlife Office, by phone at (916) 414-6600 or by U.S. mail at the above address.

SUPPLEMENTARY INFORMATION: The Yolo County Habitat Conservation Plan/Natural Community Conservation Plan Joint Powers Agency (Joint Powers Agency) is composed of members representing Yolo County; the cities of Davis, West Sacramento, Winters, and Woodland; and the University of California at Davis (local partners).

The EIS will be a joint EIS/Environmental Impact Report (EIR), for which the Service, Joint Power Agency (JPA), and California Department of Fish and Game (CDFG), intend to gather information necessary for preparation. The Plan will be prepared to meet the requirements of section 10 of the Act and the Natural Community Conservation Planning (NCCP) Act. The Service will serve as the administrative lead for all actions related to this Federal Register notice for the EIS component of the EIS/EIR. The JPA will serve as the State lead agency under the California Environmental Quality Act (CEQA) for the EIR component.

The Joint Powers Agency, in accordance with the California Environmental Quality Act, is publishing a similar notice.

The Joint Powers Agency and the local partners intend to apply for a 50-year incidental take permit from the U.S. Fish and Wildlife Service. This permit is needed to authorize the incidental take of threatened and endangered species that could result from activities covered under the habitat conservation plan (Plan).

The Fish and Wildlife Service provides this notice to (1) describe the proposed action and potential alternatives; (2) advise other Federal and State agencies, affected Tribes, and the public of our intent to prepare an Environmental Impact Statement/Environmental Impact Report; (3) announce the initiation of a public scoping period; and (4) obtain suggestions and information on the scope of issues and alternatives to be included in the Environmental Impact Statement/Environmental Impact Report.

Background

The Plan is both a habitat conservation plan (HCP), intended to fulfill the requirements of the Act, and a natural community conservation plan, to fulfill the requirements of the NCCP Act. The Plan is being prepared under the combined efforts of Yolo County; the cities of Davis, West Sacramento, Winters, and Woodland; and the University of California at Davis, in coordination with the Service and CDFG.

Section 9 of the Act (16 U.S.C. 1531 et seq.) and Federal regulations prohibit the “take” of wildlife species listed as endangered or threatened. The Act defines the term “take” as: To harass, harm, pursue, hunt, shoot, wound, kill, trap, capture, or collect listed species, or to attempt to engage in such conduct (16 U.S.C. 1532). Harm includes significant habitat modification or degradation that actually kills or injures listed wildlife by significantly impairing essential behavioral patterns, including breeding, feeding, and sheltering [50 CFR 17.3(c)]. Pursuant to section 10(a)(1)(B) of the Act, we may issue permits to authorize “incidental take” of listed species. “Incidental take” is defined by the Act as take that is incidental to, and not the purpose of, carrying out an otherwise lawful activity. Service regulations governing permits for threatened species and endangered species, respectively, are promulgated in 50 CFR sections 17.22 and 17.32.

Section 10 of the Act specifies the requirements for the issuance of incidental take permits to non-Federal entities. Any proposed take must be incidental to otherwise lawful activities and cannot appreciably reduce the likelihood of the survival and recovery of the species in the wild. The impacts of such take must also be minimized and mitigated to the maximum extent practicable. To obtain an incidental take permit, an applicant must prepare an HCP describing the impacts that will likely result from the proposed taking, measures for minimizing and mitigating the impacts of the take, funding available to implement such measures, alternatives to the taking, and reasons for not implementing the alternatives. Thus, the HCP sets forth a uniform and systematic conservation strategy that ensures that impacts to Covered Species and their habitats from activities covered by the HCP (Covered Activities) are minimized and mitigated to the maximum extent practicable. If a section 10 permit is issued, the permittee(s) would receive assurances for all plant and animal species covered by the HCP on non-Federal land and included on the permit under the Service's “No Surprises” regulation (50 CFR 17.22(b)(5) and 17.32(b)(5)).

Plan Area

The plan area covers approximately 653,817 acres, which encompasses the entire extent of Yolo County. The boundary of the plan area is based on political, ecological, and hydrologic factors.

Covered Activities

The proposed section 10 incidental take permit may allow take of wildlife Covered Species resulting from Covered Activities on non-Federal land in the proposed plan area. The purpose of the Plan is to contribute to the conservation of Covered Species while streamlining endangered species permitting. The Joint Powers Agency and local partners intend to request incidental take authorization for Covered Species that could be affected by the following three general categories of Covered Activities: (1) Permanent development; (2) operation, maintenance, and other ongoing activities; and (3) implementation of the Plan's conservation strategy. Permanent development could include land conversion, public and private infrastructure, and new facilities associated with agricultural and livestock production. Examples of public infrastructure include, but are not limited to, roadways, bridges, utilities (i.e. natural gas), solar and wind power generation facilities, and water conveyance (including flood control). Operation, maintenance, and other ongoing activities could include operation and maintenance of permanent development described above as well as the operation and maintenance of recreational and mining facilities, and agricultural operations and processing. Implementation of the Plan's conservation strategy could include preservation, restoration, creation, enhancement, management, and monitoring activities.

Covered Species

Covered Species are those species addressed in the proposed Plan for which conservation actions will be implemented and for which the Joint Powers Agency and local partners will seek incidental take authorizations for a period of up to 50 years. Proposed Covered Species are expected to include threatened and endangered species listed under the Act, species listed under the California Endangered Species Act, as well as currently unlisted species. Species proposed for coverage in the Plan are species that are currently listed as federally threatened or endangered or have the potential to become listed during the life of this Plan and have some likelihood to occur within the plan area. The Plan is currently expected to address 35 listed and nonlisted wildlife and plant species. The list of proposed Covered Species may change as the planning process progresses; species may be added or removed as more is learned about the nature of Covered Activities and their impact within the plan area.

The following federally listed threatened and endangered wildlife species are proposed to be covered by the Plan: The endangered conservancy fairy shrimp (Branchinecta conservatio), threatened vernal pool fairy shrimp (Branchinecta lynchi), endangered vernal pool tadpole shrimp (Lepidurus packardi), threatened valley elderberry longhorn beetle (Desmocerus californicus dimorphus), threatened California tiger salamander (Central California Distinct Population Segment) (Ambystoma californiense), threatened California red-legged frog (Rana draytonii), threatened giant garter snake (Thamnophis gigas), and endangered least Bell's vireo (Vireo bellii pusillus).

The following unlisted wildlife species are proposed to be covered by the Plan: Midvalley fairy shrimp (Branchinecta mesovallensis), California linderiella (Linderiella occidentalis), western spadefoot toad (Spea hammondii), foothill yellow-legged frog (Rana boylii), western pond turtle (Clemmys marmorata), Swainson's hawk (Buteo swainsoni), northern harrier (Circus cyaneus), white-tailed kite (Elanus leucurus), mountain plover (Charadrius montanus), black tern (Chlidonias niger), western yellow-billed cuckoo (Coccyzus americanus), western burrowing owl (Athene cunicularia hypugaea), loggerhead shrike (Lanius ludovicianus), purple martin (Progne subis), bank swallow (Riparia riparia), yellow-breasted chat (Icteria virens), grasshopper sparrow (Ammodramus savannarum), tricolored blackbird (Agelaius tricolor), and Townsend's big-eared bat (Corynorhinus townsendii).

Take of federally listed plant species is not prohibited on non-Federal land under the Act, and authorization under a section 10 permit is not required. Section 9 of the Act does, however, prohibit the removal or malicious destruction of federally listed plants from areas under Federal jurisdiction and the removal or destruction of such plants in knowing violation of State law. In addition, section 7(a)(2) of the Act prohibits Federal agencies from jeopardizing the continued existence of any listed plant or animal species or destroying or adversely modifying the critical habitat of such species. The following federally listed plant species are proposed to be included in the Plan in recognition of the conservation benefits provided for them under the Plan and the assurances permit holders would receive if they are included on a permit: The endangered palmate-bracted bird's-beak (Cordylanthus palmatus), threatened Colusa grass (Neostapfia colusana), and endangered Solano grass (Tuctoria mucronata). The following unlisted plant species are also proposed to be included in the Plan: alkali milkvetch (Astragalus tener var. tener), brittlescale (Atriplex depressa), San Joaquin spearscale (Atriplex joaquiniana), Heckard's pepper-grass (Lepidium latipes var. heckardii), and Baker's navarretia (Navarretia leucocephala ssp. bakeri).

Environmental Impact Statement

Before deciding whether to issue the requested Federal incidental take permit, the Service will prepare a draft EIS as part of the EIS/EIR, in order to analyze the environmental impacts associated with issuance of the incidental take permit. In the EIS component of the EIS/EIR, the Service will consider the following alternatives: (1) The proposed action, which includes the issuance of take authorizations consistent with the proposed Plan under section 10(a)(1)(B) of the Act; (2) no action (no permit issuance); and (3) a reasonable range of additional alternatives. The EIS/EIR will include a detailed analysis of the impacts of the proposed action and alternatives. The range of alternatives could include variations in impacts, conservation, permit duration, Covered Species, Covered Activities, permit area, or a combination of these elements.

The EIS/EIR will identify and analyze potentially significant direct, indirect, and cumulative impacts of our authorization of incidental take (permit issuance) and the implementation of the proposed Plan on biological resources, land uses, utilities, air quality, water resources, cultural resources, socioeconomics and environmental justice, recreation, aesthetics, climate change and greenhouse gases, and other environmental issues that could occur with implementation of each alternative. The Service will use all practicable means, consistent with NEPA and other essential considerations of national policy, to avoid or minimize significant effects of our actions on the quality of the human environment.

Reasonable Accommodation

Persons needing reasonable accommodations in order to attend and participate in the public meetings should contact Cori Mustin at (916) 414-6600 as soon as possible. In order to allow sufficient time to process requests, please call no later than one week before the public meeting. Information regarding this proposed action is available in alternative formats upon request.

Public Comments

Before including your address, phone number, e-mail address, or other personal identifying information in your comment, you should be aware that your entire comment, including your personal identifying information, may be made publicly available at any time. While you can ask us in your comment to withhold your personal identifying information from public review, we cannot guarantee that we will be able to do so.

Material the Service receives will be available for public inspection, by appointment, during normal business hours (Monday through Friday, 8 a.m. to 4:30 p.m.) at the Service's Sacramento address (see ADDRESSES).

Authority: 40 CFR 1501.7.

Alexandra Pitts,
Deputy Regional Director, Pacific Southwest Region, Sacramento, California.

[FR Doc. 2011-27266 Filed 10-20-11; 8:45 am]

BILLING CODE 4310-55-P